DEPARTMENT OF HEALTH AND HUMAN SERVICES

Office of the Secretary

Office of the Assistant Secretary for Health, Statement of Organization, Functions, and Delegations of Authority

Part A, Office of the Secretary, statement of Organization, Function, and Delegation of Authority for the U.S. Department of Health and Human Services is being amended at Chapter AC, Office of the Assistant Secretary for Health (OASH), as last amended at 69 FR 660-661, dated January 6, 2004; 72 FR 58095-6, dated October 12, 2007; and most recently at 75 FR 53304-05, dated August 31, 2010. The amendment reflects the consolidation and realignment of personnel oversight, administration and management functions and responsibilities for the Office of the Assistant Secretary for Health's Immediate Office. The changes are as follows:

I. Under Chapter AC, Section AC.20 Functions, delete Paragraph A, “The Immediate Office (ACA),” in its entirety and replace with the following:

A. The Immediate Office (ACA) 75 FR 53304-05, Aug. 31, 2010

(1) Provides direction to program offices within OASH; (2) Provides oversight and direction to the Regional Health Administrators (I-X) and their associated staff; (3) Provides advice to assure that the Department conducts broad based public health assessments designed to better define public health challenges and to design solutions to those problems; assists other components within the Department in anticipating future public health issues and problems, and provides assistance to ensure that the Department designs and implements appropriate approaches, interventions, and evaluations, to maintain, sustain, and improve the health of the Nation; (4) At the direction of the Secretary, provides assistance in leading and managing the implementation and coordination of Secretarial decisions for Public Health Service (PHS) Operating Divisions (OPDIVs), and for that purpose, draws on Staff Divisions (STAFFDIVs) and other organizational units for assistance in regard to legislation, budget, communications, and policy analysis; (5) Provides advice to the Secretary and senior Department officials on budget and legislative issues of the PHS OPDIVs; (6) Works in conjunction with the Assistant Secretary for Planning and Evaluation on matters of health science policy analysis and development; (7) Provides a focus for leadership on matters including recommendations for policy on population-based public health, science and public health infrastructure; and the Secretary's direction leads and/or coordinates initiatives that cut across agencies and OPDIVs; (8) Works in conjunction with the Department's PHS OPDIVs, and others, in building and promoting relationships among and between State and local health departments, academic institutions, professional and constituency organizations (9) Communicates and interacts with national and international professional and constituency organizations on matters of public health and science; (10) Manages the vaccine and immunization related activities for the Secretary; (11) Provides leadership and coordinates public health activities that addresses health disparities related to sexual orientation; (12) Responsible for management and oversight of human research subjects protections functions and related activities where research involves human subjects; (13) Proposes findings of research misconduct and administrative actions in response to allegations of research misconduct involving research conducted or supported by the PHS OPDIVs, including reversal of an institution's no misconduct finding or opening of a new investigation; (14) Provides administrative and management support on bioethical issues; (15) Provides support for the Office of the Surgeon General (OSG) in the exercise of statutory requirements and assigned activities as the Department's liaison for military and veterans issues and works with veterans associations and organizations to bring focus on the health needs of veterans and military families; (16) Through the OSG directs and manages the PHS Commissioned Corps, which includes a cadre of health professionals, and the associated personnel systems in support of the missions of the Department and public health activities of non-HHS agencies in which officers are assigned or detailed to, and provides oversight and direction for officer assignments and professional development; and (17) Provides policy, related administrative management, oversight, and routinely measure the effectiveness of the Commissioned Corps.

II. Delegations of Authority. Pending further re-delegation, Directives or orders made by the Secretary, or the Assistant Secretary for Health, all delegations and re-delegations of authority made to officials and employees of the affected organizational component will continue in effect pending further re-delegations, provided they are consistent with this reorganization.

Dated: December 27, 2011.
Kathleen Sebelius,
Secretary.

[FR Doc. 2012-12172 Filed 5-18-12; 8:45 am]

BILLING CODE 4150-42-P